DEPARTMENT OF COMMERCE

National Oceanic and Atmospheric Administration

50 CFR Part 600

[Docket No. 010110022-1022-01; I.D. 120800A]

RIN 0648-AO89

Magnuson-Stevens Fishery Conservation and Management Act; Amendment of Foreign Fishing Regulations

AGENCY: National Marine Fisheries Service (NMFS), National Oceanic and Atmospheric Administration (NOAA), Commerce.

ACTION: Proposed rule; request for comments.

SUMMARY: NMFS proposes a fee schedule for foreign vessels fishing in the U.S. Exclusive Economic Zone (EEZ). The intent of this action is to comply with the Magnuson-Stevens Fishery Conservation and Management Act (Magnuson-Stevens Act), which requires the establishment of a schedule of reasonable fees that apply non-discriminatorily to each foreign fishing nation.

DATES: Comments must be received on or before April 9, 2001.

ADDRESSES: Send comments to Bruce C. Morehead, Office of Sustainable Fisheries, NMFS, 1315 East-West Highway, Silver Spring, MD 20910.

FOR FURTHER INFORMATION CONTACT: Robert A. Dickinson, 301-713-2276.

SUPPLEMENTARY INFORMATION: Regulations at 50 CFR part 600, subpart F govern foreign fishing under the Magnuson-Stevens Act (16 U.S.C. 1801 et seq.). The regulations provide for the application and issuance of foreign fishing permits under provisions of section 204(b) of the Magnuson-Stevens Act. Under section 204(b), foreign vessels may be permitted to catch, process, scout, support and transship in the EEZ.

Section 204(b)(10) of the Magnuson-Stevens Act requires the establishment of a schedule of reasonable fees to apply non-discriminatorily to each foreign fishing nation. Regulations at 50 CFR 600.518 require, among other things, that foreign vessels authorized to directly harvest fish in the EEZ pay fees based on the number of metric tons (mt) of allocated species harvested. The species potentially available for foreign fishing and the fees associated with those species have been in effect since 1992 and are in need of updating. The species and fees are found in the table at 50 CFR 600.518(b)(1). NMFS proposes to amend this table to remove species no longer available for allocation, clarify listings for certain species appearing in the table, add Atlantic herring as an allocable species, and establish the fees to be paid for the resulting list of allocable species.

Specifically, NMFS proposes to remove red and silver Hake and the associated fees from the table. These species are no longer available for harvest by foreign fishing vessels. NMFS proposes to amend the table to clarify that, instead of referring to “Herring,” the table should refer to “Herring, River.” NMFS proposes to amend the table to clarify that, instead of referring to “Other groundfish,” the table should refer to “Other finfish.” NMFS proposes to add “Atlantic herring” to the table as a potentially allocable species.

With respect to fees to be charged, in recommending a specification of a total allowable level of foreign fishing (TALFF) for Atlantic herring and Atlantic mackerel, the New England Fishery Management Council and the Mid-Atlantic Fishery Management Council, respectively, intended each TALFF to be an incentive for increased joint venture activities between U.S. and foreign vessels. NMFS believes it would be reasonable to support the intent of the Councils by continuing the NMFS practice of keeping fees at a low level. Joint ventures are expected to be an integral part of foreign fishing operations in both the Atlantic herring and Atlantic mackerel fisheries and the costs of the foreign directed fisheries influence the ability of foreign owners and operators to purchase herring and mackerel at-sea from U.S. fishermen. Lower fees for allocated species should result in a greater likelihood that U.S. fishermen will receive closer to current ex-vessel values for herring and mackerel than they would receive with higher fees in effect. Fees set for directed fishing at prohibitively high levels could adversely affect U.S. fishermen engaged in joint ventures and U.S. opportunities to develop the Atlantic herring and Atlantic mackerel fisheries. Based on past experience, NMFS believes it would be both appropriate and reasonable to set foreign fees at 20 percent of ex-vessel value. Thus, NMFS proposes to calculate a fee per mt for each allocable species, or species group, equal to 20 percent of the ex-vessel value of each allocable species, or species group. NMFS proposes to calculate ex-vessel values based on a 5-year average ex-vessel value for each species, or species group, according to ex-vessel value records maintained by the NMFS Fisheries Statistics and Economics Division. However, in the case of Atlantic mackerel, an anomaly in ex-vessel value occurred in 1997 when the ex-vessel value of Atlantic mackerel rose to approximately $630.00 per mt from an average ex-vessel value of approximately $324.00 per mt. Although the reasons for this anomaly are not entirely clear, NMFS believes the higher ex-vessel value for Atlantic mackerel in 1997 is related to the higher world prices for mackerel that resulted from a severe reduction in the “Total Allowable Catch” for the North Sea mackerel fishery. The North Sea fishery is large enough to influence the world price of frozen mackerel. NMFS believes it is appropriate to factor out this anomaly when determining the 5-year ex-vessel value of Atlantic mackerel for purposes of calculating the foreign fee schedule. Not factoring out the anomaly would result in a fee for Atlantic mackerel of $78.97 per mt. Factoring out the anomaly results in, and NMFS proposes, a fee for Atlantic mackerel of $64.76 per mt.

NMFS believes fees so calculated will recover fees at a reasonable level, as required by section 204(b)(10) of the Magnuson-Stevens Act. Also, in accordance with section 204(b)(10), the proposed fees are non-discriminatory because the owners or operators of vessels of all nations receiving allocations for directed fishing would pay the same fees.

Under NOAA Administrative Order 205-11, 7.01, dated December 17, 1990, the Under Secretary for Oceans and Atmosphere has delegated to the Assistant Administrator for Fisheries, NOAA, the authority to sign material for publication in the Federal Register.

Classification

This proposed rule has been determined to be not significant for purposes of Executive Order 12866.

The Chief Counsel for Regulation of the Department of Commerce certified to the Chief Counsel for Advocacy of the Small Business Administration that this proposed rule, if adopted, would not have a significant economic impact on a substantial number of small entities because the entities that would be affected by this regulation are not small entities within the meaning of the Regulatory Flexibility Act. As a result, an initial Regulatory Flexibility Analysis was not prepared.

List of Subjects in 50 CFR Part 600

Fisheries, Fishing, Foreign relations, Intergovernmental relations.

Dated: March 1, 2001.
Clarence Pautzke,
Acting Assistant Administrator for Fisheries, National Marine Fisheries Service.

For the reasons set out in the preamble, 50 CFR Chapter VI is proposed to be amended as follows:

PART 600—MAGNUSON-STEVENS ACT PROVISIONS

1. The authority citation for part 600 continues to read as follows:

Authority: 5 U.S.C. 561 and 16 U.S.C. 1801 et seq.

2. In § 600.518(b)(1), the table is revised to read as follows:

§ 600.518 Fee schedule for foreign fishing.

* * * * *

(b) * * *

(1) * * *

TABLE—SPECIES AND POUNDAGE FEES
[Dollars per metric ton]
Species | Poundage fees
Northwest Atlantic Ocean fisheries: |
1. Butterfish | 277.96
2. Herring, Atlantic | 25.75
3. Herring, River | 49.59
4. Mackerel, Atlantic | 64.76
5. Other finfish | 45.48
6. Squid, Illex | 97.56
7. Squid, Loligo | 321.68

* * * * *

[FR Doc. 01-5759 Filed 3-7-01; 8:45 am]

BILLING CODE 3510-22-S